NUCLEAR REGULATORY COMMISSION

Agency Information Collection Activities: Proposed Collection; Comment Request

AGENCY: Nuclear Regulatory Commission (NRC).

ACTION: Notice of pending NRC action to submit an information collection request to OMB and solicitation of public comment.

SUMMARY: The NRC is preparing a submittal to OMB for review and approval of information collections under the provisions of the Paperwork Reduction Act of 1995 (44 U.S.C. Chapter 35).

Information pertaining to the requirement to be submitted:

1. The title of the information collection: 10 CFR part 30, Rules of General Applicability to Domestic Licensing of Byproduct Material—Revision to include burden for license conditions and additional burden for transferring a license.

2. Current OMB approval number: 3150-0017.

3. How often the collection is required: On occasion. Reports are submitted upon license transfer or as events occur. Recordkeeping must be performed on an on-going basis.

4. Who is required or asked to report: Persons applying for or holding a license to manufacture, produce, transfer, receive, acquire, own, possess, or use radioactive byproduct material.

5. The number of annual respondents: 6552 (1,872 NRC licensees and 4680 Agreement State licensees).

6. The number of hours needed annually to complete the requirement or request: 2131 (608 hours for NRC licensees [321 reporting + 287 recordkeeping] and 1523 hours for Agreement State licensees [803 reporting + 720 recordkeeping]).

7. Abstract: The NRC's regulations in 10 CFR part 30 establish rules, applicable to all persons in the United States, governing domestic licensing of radioactive byproduct material. The NRC has identified two sections of 10 CFR part 30 that contain burden that has not been previously captured in the supporting statement for 10 CFR part 30. This burden is submitted as an addition to the current 10 CFR part 30 clearance. In 10 CFR 30.34(b), the NRC requires the submittal of information that may not have been required on the previously submitted Form 313, “Application for Material License.” In addition, 10 CFR 30.34(e)(4) permits the NRC to impose additional conditions in the license under certain circumstances. These conditions may require additional reporting and recordkeeping requirements. The conditions are used in conjunction with the requirements in Title 10 of the Code of Federal Regulations (10 CFR).

Submit, by July 30, 2001, comments that address the following questions:

1. Is the proposed collection of information necessary for the NRC to properly perform its functions? Does the information have practical utility?

2. Is the burden estimate accurate?

3. Is there a way to enhance the quality, utility, and clarity of the information to be collected?

4. How can the burden of the information collection be minimized, including the use of automated collection techniques or other forms of information technology?

A copy of the draft supporting statement may be viewed free of charge at the NRC Public Document Room, One White Flint North, 11555 Rockville Pike, Room O-1F23, Rockville, Maryland. OMB clearance requests are available at the NRC web site (http://www.nrc.gov/NRC/PUBLIC/OMB/index.html). The document will be available on the NRC home page site for 60 days after the signature date of this notice.

Comments and questions about the information collection requirements may be directed to the NRC Clearance Officer, Brenda Jo. Shelton, U.S. Nuclear Regulatory Commission, T-6 E6, Washington, DC 20555-0001, by telephone at 301-415-7233, or by Internet electronic mail at BJS1@NRC.GOV.

Dated at Rockville, Maryland, this 22nd day of May 2001.
For the Nuclear Regulatory Commission.
Brenda Jo. Shelton,
NRC Clearance Officer, Office of the Chief Information Officer.

[FR Doc. 01-13492 Filed 5-29-01; 8:45 am]

BILLING CODE 7590-01-P